DEPARTMENT OF JUSTICE

Antitrust Division

Notice Pursuant to the National Cooperative Research and Production Act of 1993—The ATM Forum

Notice is hereby given that, on March 29, 2001, pursuant to Section 6(a) of the National Cooperative Research and Production Act of 1993, 15 U.S.C. 4301 et seq. (“the Act”), The ATM Forum has filed written notifications simultaneously with the Attorney General and the Federal Trade Commission disclosing changes in its membership status. The notifications were filed for the purpose of extending the Act's provisions limiting the recovery of antitrust plaintiffs to actual damages under specified circumstances. Specifically, Verilink, Madison, AL; ShareGate, Inc., Reno, NV; Mahi Networks, Petaluma, CA; Pivotech Systems, Inc., Piscataway, NJ; Partner Voxtream, Vojens, Denmark; and SII Network Systems, Inc., Chiba-shi, Chiba, Japan have been added as parties to this venture. The following principal members have downgraded to auditing members: Thales Communications, Colombes Cedex, France; Fujitsu, Raleigh, NC; Zdruzenie ATM v SR, Bratislava, Slovakia; Paradyne, Largo, FL; and CNT Corporation, Plymouth, MN. The following members changed their names: CSELT S.p.A. to Telcom Italia Lab S.p.A., Torino, Italy; and Thomson-CSF to Thales Communications, Colombes Cedex, France. The following members have been involved in acquisitions: Spyrant, Calabasas, CA acquired Hekimian Laboratories, Rockville, MD; Qwest Communications, Arlington, VA acquired US West, Boulder, CO; Avtec Systems, Inc., Fairfax, FA acquired Symbiont, Fairfax, VA; Dynegy Connect, LP, Aurora, CO acquired Extant, Aurora, CO; Natural MicroSystems, Inc., St-Hubert, Quebec, Canada acquired InnoMediaLogic, Inc., Framingham, MA; and Altera Corporation, High Wycombe, Buckinghamshire, United Kingdom acquired DesignPRO, Inc., Nepean, Ontario, Canada. Also, Elsa Communications, Helsinki, Finland; Ciena Corporation, Marlboro, MA; K-Net, Ltd., Odiham, Hampshire, United Kingdom; Societe Europeene Des Satellites S.A., Betzdorf, Luxembourg; Telecom New Zealand, Wellington, New Zealand; Roke Manor Research, Romsey Hampshire, United Kingdom; University of Tech Helsinki, Espoo, Finland; University of Wuerzburg, Wuerzburg Germany; Central Research Institute of Electric Power, Tokyo, Japan; and Intercai Telematics Consultants, Utrecht, The Netherlands have been dropped as parties to this venture.

No other changes have been made in either the membership or planned activity of the group research project. Membership in this group research project remains open, and The ATM Forum intends to file additional written notification disclosing all changes in membership.

On April 19, 1993, The ATM Forum filed its original notification pursuant to Section 6(a) of the Act. The Department of Justice published a notice in the Federal Register pursuant to Section 6(b) of the Act on June 2, 1993 (58 FR 31415).

The last notification was filed with the Department on December 29, 2000. A notice was published in the Federal Register pursuant to Section 6(b) of the Act on February 27, 2001 (66 FR 12565).

Constance K. Robinson,
Director of Operations, Antitrust Division.

[FR Doc. 01-11127 Filed 5-2-01; 8:45 am]

BILLING CODE 4410-11-M